DEPARTMENT OF STATE

[Public Notice 6946]

Shipping Coordinating Committee; Notice of Committee Meeting

The Shipping Coordinating Committee (SHC) will conduct an open meeting at 10 a.m. on Tuesday, April 20, 2010, in Room 1422 of the United States Coast Guard Headquarters Building, 2100 Second Street, SW., Washington, DC 20593-0001. The primary purpose of the meeting is to prepare for the International Maritime Organization (IMO) Diplomatic Conference to Revise the International Convention on Liability and Compensation for Damage in Connection with the Carriage of Hazardous and Noxious Substances by Sea, 1996 (HNS Convention) to be held at the IMO Headquarters, United Kingdom, from April 26 to April 30, 2010.

The primary matters to be considered include:

—Election of the President

—Adoption of the agenda

—Adoption of the Rules of Procedure

—Election of the Vice-Presidents and other officers of the Conference

—Appointment of the Credentials Committee

—Organization of the work of the Conference, including the establishment of other committees, as necessary

—Consideration of a draft protocol to the International Convention on Liability and Compensation for Damage in Connection with the Carriage of Hazardous and Noxious Substances by Sea, 1996 and any draft Conference resolutions

—Consideration of the reports of the credentials committee and other committees

—Adoption of the Final Act and any instruments, recommendations and resolutions resulting from the work of the Conference

—Signature of the Final Act

Members of the public may attend this meeting up to the seating capacity of the room. To facilitate the building security process, those who plan to attend should contact the meeting coordinator, Ms. Bronwyn G. Douglass, by e-mail at bronwyn.douglass@uscg.mil, by phone at (202) 372-3792, by fax at (202) 372-3972, or in writing at Commandant (CG-0941), U.S. Coast Guard, 2100 2nd Street, SW., Stop 7121, Washington, DC 20593-7121. A member of the public requesting reasonable accommodation should make such request prior to April 13, 2010. Requests made after this date might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

This announcement might appear in the Federal Register less than 15 days prior to the meeting. The Department of State finds that there is an exceptional circumstance in that this advisory committee meeting must be held on April 20th in order to prepare for the IMO Diplomatic Conference to be convened on April 26th.

Dated: April 1, 2010.
Greg O'Brien,
Office of Ocean and Polar Affairs, Department of State.

[FR Doc. 2010-7903 Filed 4-6-10; 8:45 am]

BILLING CODE 4710-09-P